ENVIRONMENTAL PROTECTION AGENCY

[Docket #EPA-RO4-SFUND-2011-3752, FRL-9444-5]

Callaway and Son Drum Service Superfund Site; Lake Alfred, Polk County, FL; Notice of Settlement

AGENCY: Environmental Protection Agency.

ACTION: Notice of Settlement.

SUMMARY: Under Section 122(h)(1) of the Comprehensive Environmental Response, Compensation and Liability Act (CERCLA), the United States Environmental Protection Agency has entered into a settlement for reimbursement of past response costs concerning the Callaway and son Drum Service Superfund Site located in Lake Alfred, Polk County, Florida for publication.

DATES: The Agency will consider public comments on the settlement until August 26, 2011. The Agency will consider all comments received and may modify or withdraw its consent to the settlement if comments received disclose facts or considerations which indicate that the settlement is inappropriate, improper, or inadequate.

ADDRESSES: Copies of the settlement are available from Ms. Paula V. Painter. Submit your comments by Site name Callaway and Son Drum Service Superfund Site by one of the following methods:

• http://www.epa.gov/region4/waste/sf/enforce.htm

• E-mail. Painter.Paula@epa.gov

FOR FURTHER INFORMATION CONTACT: Paula V. Painter at 404/562-8887.

Dated: July 7, 2011.
Greg Armstrong,
Acting Chief, Superfund Enforcement & Information Management Branch, Superfund Division.

[FR Doc. 2011-18987 Filed 7-26-11; 8:45 am]

BILLING CODE 6560-50-P